DEPARTMENT OF TRANSPORTATION

Surface Transportation Board

[Docket No. FD 35445]

Louisville & Indiana Railroad Company—Trackage Rights Exemption—CSX Transportation, Inc.

Pursuant to a written trackage rights agreement dated October 8, 2010, CSX Transportation, Inc. (CSXT) has agreed to grant nonexclusive overhead trackage rights to Louisville & Indiana Railroad Company (L&I) over CSXT's lines of railroad as follows: (1) on CSXT's Louisville Secondary, extending between the point of connection with CSXT's trackage and L&I's trackage at CSXT milepost QSL 4.0 and between the point of connection with CSXT's Louisville Secondary with CSXT's Indianapolis Terminal Subdivision at CP IU via Meridian Wye at milepost QSL 0.0, a distance of 4.0 miles, then via either: (a) CSXT's Indianapolis Terminal Subdivision extending between milepost QI 283.9 at CP IU and milepost QS 12.5 at CP AN at the west end of Avon Yard, a distance of approximately 12.5 miles; or (b)(i) CSXT's Indianapolis Terminal Subdivision extending between milepost QI 283.9 at CP IU and milepost QS 0.9 at CP IJ, (ii) the Crawfordsville Branch extending between milepost QSC 0.7 at CP IJ and milepost QSC 8.6 at CP South Hunt and, (iii) CXST's Indianapolis Terminal Subdivision extending between milepost QS 7.8 at South Hunt and milepost QS 12.5 at CP AN at the west end of Avon Yard, a distance of approximately 13.5 miles; and (2) CSXT's Louisville Secondary extending between milepost QSL 4.0 and the point of connection with the Indianapolis Belt Subdivision via Dale southeast wye or Dale northeast wye at milepost QSL 1.7, a distance of 2.3 miles, then via either CSXT's: (a)(i) Indianapolis Belt Subdivision extending between milepost QIB 5.9 at Dale and milepost QIB 3.2 at CP Woods; (ii) Crawfordsville Branch extending between milepost QSC 1.6 at CP Woods and milepost QSC 8.6 at South Hunt; and (iii) Indianapolis Terminal Subdivision extending between milepost QS 7.8 at South Hunt and milepost QS 12.5 at CP AN at the west end of Avon Yard, a distance of approximately 14.6 miles; or (b)(i) Indianapolis Belt Subdivision extending between milepost QIB 5.9 at Dale and milepost QIB 2.9 at CP 1; and (ii) Indianapolis Terminal Subdivision extending between milepost QS 1.6 at CP 1 and milepost QS 12.5 at CP AN at the west end of Avon Yard, a distance of approximately 13.9 miles.¹ The trackage rights include Avon Yard trackage as designated by the CSXT Avon Yardmaster at the time of each movement.

¹ A redacted, executed trackage rights agreement between CSXT and L&I was filed with the notice of exemption. The unredacted version, as required by 49 CFR 1180.6(a)(7)(ii), was concurrently filed under seal along with a motion for protective order. The motion is being addressed in a separate decision.

The transaction is expected to be consummated on or after December 12, 2010, 30 days after the exemption was filed. The purpose of the trackage rights agreement is to facilitate L&I' s movement of certain traffic for the account of the Indiana Rail Road Company in an efficient and safe manner.

As a condition to this exemption, any employees affected by the trackage rights will be protected by the conditions imposed in Norfolk and Western Railway—Trackage Rights—Burlington Northern, Inc., 354 I.C.C. 605 (1978), as modified in Mendocino Coast Railway—Lease and Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by December 3, 2010 (at least 7 days before the exemption becomes effective).

An original and 10 copies of all pleadings, referring to Docket No. FD 35445, must be filed with the Surface Transportation Board, 395 E Street, SW., Washington, DC 20423-0001. In addition, a copy of each pleading must be served on Troy W. Garris, Weiner Brodsky Sidman Kider PC, 2904 Corporate Cir., Flower Mound, TX 75028.

Board decisions and notices are available on our Web site at http://www.stb.dot.gov.

Decided: November 19, 2010.
By the Board, Rachel D. Campbell, Director, Office of Proceedings.
Jeffrey Herzig,
Clearance Clerk.

[FR Doc. 2010-29740 Filed 11-24-10; 8:45 am]

BILLING CODE 4915-01-P